DEPARTMENT OF HEALTH AND HUMAN SERVICES

Centers for Disease Control and Prevention

Disease, Disability, and Injury Prevention and Control Special Emphasis Panel (SEP): The Sexual Networks of African American STI Repeaters, an Elaboration of Risk, Potential Extramural Project (PEP) 2007-R-01 and Dynamic Mathematical Modeling of Sexual Transmission of C. Trachomatis Transmission in the United States, Evaluating Impact on Prevention Strategies on Chlamydial Incidence, Prevalence and Sequelae, PEP 2007-R-02

In accordance with Section 10(a)(2) of the Federal Advisory Committee Act (Pub. L. 92-463), the Centers for Disease Control and Prevention (CDC) announces the aforementioned meeting.

Time and Date: 12 p.m.-2 p.m., May 15, 2007 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of “The Sexual Networks of African American STI Repeaters, an Elaboration of Risk,” PEP 2007-R-01, and “Dynamic Mathematical Modeling of Sexual Transmission of C. Trachomatis Transmission in the United States, Evaluating Impact on Prevention Strategies on Chlamydial Incidence, Prevalence and Sequelae,” PEP 2007-R-02.

Contact Person for More Information: Susan Goodman, D.D.S., Scientific Review Administrator, Office of the Chief Science Officer, CDC, 1600 Clifton Road NE., Mailstop D74, Atlanta, GA 30333, Telephone 404-639-4940.

The Director, Management Analysis and Services Office, has been delegated the authority to sign Federal Register notices pertaining to announcements of meetings and other committee management activities, for both CDC and the Agency for Toxic Substances and Disease Registry.

Dated: April 13, 2007.
Elaine L. Baker,
Acting Director, Management Analysis and Services Office, Centers for Disease Control and Prevention.

[FR Doc. E7-7503 Filed 4-19-07; 8:45 am]

BILLING CODE 4163-18-P